DEPARTMENT OF TRANSPORTATION

Federal Aviation Administration

14 CFR Part 39

[Docket No. FAA-2011-1222; Directorate Identifier 2010-NM-268-AD]

RIN 2120-AA64

Airworthiness Directives; The Boeing Company Airplanes Model 737-600, -700, -700C, -800, -900, and -900ER Series Airplanes

AGENCY: Federal Aviation Administration (FAA), DOT.

ACTION: Notice of proposed rulemaking (NPRM).

SUMMARY: We propose to adopt a new airworthiness directive (AD) for certain The Boeing Company Airplanes Model 737-600, -700, -700C, -800, -900, and -900ER series airplanes. This proposed AD would require checking the escape slide girt for serviceability and replacement if necessary, modifying the cable routing provision, replacing the regulator padding, modifying the aspirator orientation, and modifying the valise. This proposed AD also would, for certain airplanes, require modifying or replacing the Vespel piston, modifying the pilot valve regulator, installing a new firing cable and safety pin, and modifying the slide valise. This proposed AD was prompted by reports of escape slides failing to deploy from the forward and aft right-hand doors during scheduled maintenance slide deployments, which could result in the slide being unusable during an emergency evacuation and increased likelihood of injury to passengers or crewmembers due to the difficulty in evacuating the aircraft.

DATES: We must receive comments on this proposed AD by December 23, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Goodrich Corporation, Aircraft Interior Products, Attn: Technical Publications, 3414 South Fifth Street, Phoenix, Arizona 85040; phone: (602) 243-2270; email: george.yribarren@goodrich.com; Internet: http://www.goodrich.com/TechPubs. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: (800) 647-5527) is in the ADDRESSES section. Comments will be available in the AD docket shortly after receipt.

FOR FURTHER INFORMATION CONTACT: Patrick Gillespie, Aerospace Engineer, Cabin Safety & Environmental Systems Branch, ANM-150S, Seattle Aircraft Certification Office (ACO), FAA, 1601 Lind Avenue SW., Renton, Washington 98057-3356; phone: (425) 917-6429; fax: (425) 917-6590; email: Patrick.Gillespie@faa.gov.

SUPPLEMENTARY INFORMATION:

Comments Invited

We invite you to send any written relevant data, views, or arguments about this proposal. Send your comments to an address listed under the ADDRESSES section. Include “Docket No. FAA-2011-1222; Directorate Identifier 2010-NM-268-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received eight reports from five operators of escape slides failing to deploy from the forward and aft right-hand doors during scheduled maintenance slide deployments. During the attempted escape slide deployments, the valise release cable was caught in the gap between the latch bracket and the lower edge of the aft side of the compartment latch bracket. This caused the door to stall, ultimately preventing the door from fully opening, which prevented escape slide deployment. This condition, if not corrected, could result in the escape slide being unusable during an emergency evacuation and increased likelihood of injury to passengers or crewmembers due to the difficulty in evacuating the aircraft.

Relevant Service Information

We reviewed Goodrich Service Bulletin 5A3307-25-389, dated November 8, 2010. This service information describes procedures for checking the escape slide girt for continued serviceability, and replacing the girt with a new girt if necessary. This service information also describes procedures for modifying the cable routing provision on the girt by removing three Velcro tabs and installing two fabric tunnels. Additionally, this service information describes procedures for modifying the valise by removing the parachute spring band and installing an aspirator support pad, replacing the regulator valve padding with new padding, and repacking the slide with the aspirator in a different orientation within the slide pack.

Concurrent Service Information

For slides having certain part numbers, Goodrich Service Bulletin 5A3307-25-389, dated November 8, 2010, specifies concurrent accomplishment of a modification specified in Goodrich Service Bulletin 5A3307-25-339, Revision 3, dated May 8, 2009. The modification involves modifying certain pilot valve regulators by replacing the trigger housing, bushing, and rod; installing a new firing cable and safety pin; and modifying the slide valise to accept the safety pin used with the modified valve.

For certain slides, Goodrich Service Bulletin 5A3307-25-389, dated November 8, 2010, also specifies concurrent accomplishment of Goodrich Service Bulletin 25-349, Revision 1, dated January 11, 2010, which describes procedures for modifying the Vespel piston in the regulator valves, or as an option to the modification, replacing the Vespel piston with a certain new or serviceable Vespel piston.

Other Relevant Rulemaking

Slides having part number (P/N) 5A3307-3 are affected by Boeing Service Bulletin 737-25-1491, dated April 23, 2007, which is mandated by AD 2008-24-08, Amendment 39-15748 (73 FR 72320, November 28, 2008). The modification specified by Goodrich Service Bulletin 5A3307-25-339, Revision 3, dated May 8, 2009, is approved as an alternative method of compliance (AMOC) to the slide modification required by AD 2008-24-08.

FAA's Determination

We are proposing this AD because we evaluated all the relevant information and determined the unsafe condition described previously is likely to exist or develop in other products of the same type design.

Proposed AD Requirements

This proposed AD would require accomplishing the actions specified in Goodrich Service Bulletin 5A3307-25-389, dated November 8, 2010; Goodrich Service Bulletin 5A3307-25-339, Revision 3, dated May 8, 2009; and Goodrich Service Bulletin 25-349, Revision 1, dated January 11, 2010; described previously.

Costs of Compliance

We estimate that this proposed AD affects 557 airplanes of U.S. registry.

We estimate the following costs to comply with this proposed AD:

Estimated Costs
Action | Labor cost | Parts cost | Cost per product | Cost on U.S. operators
Check girt for serviceability, modify girt and valise, orientation, and replace padding | 2 work-hours × $85 per hour = $170 | $223 | $393 | $218,901.
Modify regulator valve, install cable and pin, and modify slide valise | 1 work-hour × $85 per hour = $85 | Between $1,749 and $1,836 | Between $1,834 and $1,921 | Between $1,021,538 and $1,069,997.
Modify Vespel piston | 1 work-hour × $85 per hour = $85 | $0 | $85 | $47,345.
Optional Vespel piston replacement | 1 work-hour × $85 per hour = $85 | $612 | $697 | $388,229.

We estimate the following costs to do any necessary replacements that would be required based on the results of the check of the girt. We have no way of determining the number of aircraft that might need these replacements.

On-Condition Costs
Action | Labor cost | Parts cost | Cost per product
Girt replacement (Service Bulletin 5A3307-25-389) | 1 work-hour × $85 per hour = $85 | $942 | $1,027

According to the parts supplier, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-1222; Directorate Identifier 2010-NM-268-AD.

(a) Comments Due Date

We must receive comments by December 23, 2011.

(b) Affected ADs

This AD affects AD 2008-24-08, Amendment 39-15748 (73 FR 72320, November 28, 2008).

(c) Applicability

This AD applies to The Boeing Company Model 737-600, -700, -700C, -800, -900, and -900ER series airplanes, certificated in any category, with Goodrich Corporation door escape slide part number (P/N) 5A3086-1, -3, or -301, serial number (S/N) B3F001 through B3F611 inclusive; P/N 5A3088-1, -3, or -301, S/N B3A001 through B3A685 inclusive; or P/N 5A3307-1, -3, -5, or -301, S/N BNG0001 through BNG5707 inclusive.

(d) Subject

Joint Aircraft System Component (JASC)/Air Transport Association (ATA) of America Code 25, Equipment/Furnishings.

(e) Unsafe Condition

This AD was prompted by reports of escape slides failing to deploy from the forward and aft right-hand doors during scheduled maintenance slide deployments. We are issuing this AD to prevent failure of an escape slide to deploy, which could result in the slide being unusable during an emergency evacuation and increased likelihood of injury to passengers or crewmembers due to the difficulty in evacuating the aircraft.

(f) Compliance

Comply with this AD within the compliance times specified, unless already done.

(g) Girt Check and Slide Modification

Within 36 months after the effective date of this AD: Do the actions in paragraph (g)(1) and (g)(2) of this AD.

(1) Check the girt for continued serviceability, in accordance with the Accomplishment Instructions of Goodrich Service Bulletin 5A3307-25-389, dated November 8, 2010. If the girt is unserviceable: Before further flight, replace the girt with a new girt, in accordance with the Accomplishment Instructions of Goodrich Service Bulletin 5A3307-25-389, dated November 8, 2010.

(2) Modify the cable routing provision on the girt, modify the valise, replace the regulator padding, and modify the aspirator orientation in the slide pack, in accordance with the Accomplishment Instructions of Goodrich Service Bulletin 5A3307-25-389, dated November 8, 2010

(h) Concurrent Requirements

(1) For slide P/N 5A3307-3 or 5A3307-301: Prior to or concurrently with accomplishing the actions required by paragraph (g) of this AD, modify the pilot valve regulator P/N 4A3865-2, -3, or -4, as applicable; install a new firing cable and safety pin; and modify the slide valise; in accordance with the Accomplishment Instructions of Goodrich Service Bulletin 5A3307-25-339, Revision 3, dated May 8, 2009.

(2) For slide P/N 5A3307-3, 5A3307-5, or 5A3307-301: Prior to or concurrently with accomplishing the actions required by paragraph (g) of this AD, modify the Vespel piston in the regulator valves or replace the Vespel piston with a new or serviceable Vespel piston P/N 3A3566-2 or 3A3832-2, as applicable, in accordance with the Accomplishment Instructions of Goodrich Service Bulletin 25-349, Revision 1, dated January 11, 2010.

(i) Credit for Actions Accomplished in Accordance With Previous Service Information

(1) Modifying the pilot valve regulator, installing a new firing cable and safety pin, or modifying the slide valise in accordance with Goodrich Service Bulletin 5A3307-25-339, Revision 1, dated September 26, 2003; or Revision 2, dated March 31, 2004; before the effective date of this AD is acceptable for compliance with the corresponding modification or installations required by paragraph (h) of this AD.

(2) Modifying or replacing the Vespel piston in the regulator valves, in accordance with Goodrich Service Bulletin 25-349, dated September 15, 2004, before the effective date of this AD is acceptable for compliance with the corresponding modification required by paragraph (h) of this AD.

(j) Parts Installation

As of the effective date of this AD, no person may install on any airplane a part identified in paragraph (j)(1), (j)(2), or (j)(3) of this AD.

(1) A regulator having P/N 4A3865-2, -3, or -4.

(2) An evacuation system having P/N 5A3086-1, -3, or -301, serial number (S/N) B3F001 through B3F611 inclusive; P/N 5A3088-1, -3, or -301, S/N B3A001 through B3A685 inclusive; or P/N 5A3307-1, -3, -5, or -301, S/N BNG0001 through BNG5707 inclusive.

(3) Regulator valve padding having P/N 3A4047-13.

(k) Alternative Methods of Compliance (AMOCs)

(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(l) Related Information

(1) For more information about this AD, contact Patrick Gillespie, Aerospace Engineer, Cabin Safety & Environmental Systems Branch, ANM-150S, Seattle Aircraft Certification Office (ACO), FAA, 1601 Lind Avenue SW., Renton, Washington 98057-3356; phone: (425) 917-6429; fax: (425) 917-6590; email: Patrick.Gillespie@faa.gov.

(2) For service information identified in this AD, contact Goodrich Corporation, Aircraft Interior Products, Attn: Technical Publications, 3414 South Fifth Street, Phoenix, Arizona 85040; phone: (602) 243-2270; email: george.yribarren@goodrich.com; Internet: http://www.goodrich.com/TechPubs. You may review copies of the referenced service information at the FAA, Transport Airplane Directorate, the FAA, 1601 Lind Avenue SW., Renton, Washington. For information on the availability of this material at the FAA, call (425) 227-1221.

Issued in Renton, Washington, on October 27, 2011.
Kalene C. Yanamura,
Acting Manager, Transport Airplane Directorate, Aircraft Certification Service.

[FR Doc. 2011-28856 Filed 11-7-11; 8:45 am]

BILLING CODE 4910-13-P